DEPARTMENT OF ENERGY

Federal Energy Regulatory Commission

[Docket No. RM01-5-000]

Notice of Changes To Enable Filers Making eTariff Filings To Designate Applicants and To Add Service List Entries; Electronic Tariff Filings

Take notice that on February 3, 2025, changes to the Commission's systems have been implemented to enable filers making eTariff flings to designate the lead and additional or co-applicants on a filing and to include additional names in the service list through FERC Online.

I. Filings in Which the Lead Applicant and Company IDs Are the Same

For most filings in which the lead_applicant_id and the company_id are the same, the only applicant will be the company name associated with the Company Registration ID used for both the lead_applicant_id and the company_id. All registered email addresses added in FERC Online will be added to the service list. The last active account manager email address in company registration also will be added to the service list.

II. Filings in Which the Lead Applicant ID Differs From Company ID

When the filing company (company_id) is filing on behalf of another entity as lead applicant, the filing company can choose whether it wants to be considered an Additional or Co-Applicant. Section A describes the process to be used in FERC Online by which the filing company will not be considered an Applicant or Co-Applicant and will not be added to the service list. Section B describes the process to be used in FERC Online by which the filing company will be considered an Applicant or Co-Applicant and will be added to the service list.

A. Filing Company Does Not Want To Be Considered an Additional Applicant

1. Filers that do not want the filing company (company_id) to be considered an applicant will still be required to include the one registered email address required by FERC Online as the “Signer” associated with the company_id. But they should not add any additional email address for the filing company. If filed in this manner, the filing company will not be considered an Additional or Co-Applicant and the single (signer) email address will not be added to the service list.

2. The last active account manager email address in company registration associated with the lead_applicant_id will be added to the service list automatically.

3. To add additional registered email addresses for the lead applicant, the filer can select the lead applicant as an “Additional Applicant” in FERC Online and add the desired email addresses for that entity.

B. Filing Company Wants To Be Considered an Additional Applicant

1. Filers that want the filing company associated with the company_id to be an Additional or Co-Applicant on the filing must include more than one registered email address (in addition to the “Signer” in FERC Online).¹ If more than one email address is added, the filing company will be treated as an Additional Applicant or Co-Applicant and all email addresses for the filing company will be added to the service list.

¹ Filing companies (company-id) that want to be considered an Additional or Co-Applicant and only want a single contact for the service list can enter the same email address as both the signer and other contact.

2. The last active account manager email address in company registration associated with the lead_applicant_id will be added to the service list automatically.

3. To add additional registered email addresses for the lead applicant, the filer can select the lead applicant as an “Additional Applicant” in FERC Online and add the desired email addresses for that entity.

As the Commission systems are upgraded, the goal is to make this process more straightforward in the future. But, given our current systems, this approach will enable filers to correctly identify the applicants on a filing and include additional registered email addresses to the service list as part of the filing.

Questions on these changes should be directed to: Michael Goldenberg at Michael.Goldenberg@ferc.gov, James Sarikas at James.Sarikas@ferc.gov, and etariffresponse@ferc.gov.

Dated: February 3, 2025.
Debbie-Anne A. Reese,
Secretary.

[FR Doc. 2025-02354 Filed 2-6-25; 8:45 am]

BILLING CODE 6717-01-P